SECURITIES AND EXCHANGE COMMISSION

[Release No. 34-84831; SR-CboeBZX-2018-018]

Self-Regulatory Organizations; Cboe BZX Exchange, Inc.; Notice of Withdrawal of a Proposed Rule Change To List and Trade Shares of the Principal Morley Short Duration Index ETF Under Rule 14.11(c)(4)

December 17, 2018.

On April 23, 2018, Cboe BZX Exchange, Inc. (“Exchange”) filed with the Securities and Exchange Commission (“Commission”), pursuant to Section 19(b)(1) of the Securities Exchange Act of 1934 (“Act”) ¹ and Rule 19b-4 thereunder,² a proposed rule change to list and trade shares of the Principal Morley Short Duration Index ETF. The proposed rule change was published for comment in the Federal Register on May 8, 2018.³ On June 20, 2018, the Commission extended the time period within which to approve the proposed rule change, disapprove the proposed rule change, or institute proceedings to determine whether to approve or disapprove the proposed rule change to August 6, 2018.⁴ On August 3, 2018, the Commission instituted proceedings under Section 19(b)(2)(B) of the Act ⁵ to determine whether to approve or disapprove the proposed rule change.⁶ On November 1, 2018, the Commission designated a longer period for Commission action.⁷ The Commission received one comment letter on the proposed rule change.⁸

¹ 15 U.S.C. 78s(b)(1).

² 17 CFR 240.19b-4.

³ See Securities Exchange Act Release No. 83152 (May 2, 2018), 83 FR 20892.

⁴ See Securities Exchange Act Release No. 83479, 83 FR 29838 (June 26, 2018).

⁵ 15 U.S.C. 78s(b)(2)(B).

⁶ See Securities Exchange Act Release No. 83775, 83 FR 39486 (August 9, 2018).

⁷ See Securities Exchange Act Release No. 84523, 83 FR 55780 (November 7, 2018).

⁸ See letter from Kyle Murray, Assistant General Counsel, Cboe Global Markets (September 13, 2018), available at: https://www.sec.gov/comments/sr-cboebzx-2018-018/srcboebzx2018018.htm.

On December 7, 2018, the Exchange withdrew the proposed rule change (SR-CboeBZX-2018-018).

For the Commission, by the Division of Trading and Markets, pursuant to delegated authority.⁹
⁹ 17 CFR 200.30-3(a)(12).
Eduardo A. Aleman,
Deputy Secretary.

[FR Doc. 2018-27616 Filed 12-20-18; 8:45 am]

BILLING CODE 8011-01-P